DEPARTMENT OF LABOR

Employment and Training Administration

[TA-W-57,960]

Solectron Corporation a Subsidiary of Selectron USA, Inc., Lumberton, NJ; Notice of Termination of Certification

This notice terminates the Certification Regarding Eligibility to Apply for Worker Adjustment Assistance and Alternative Trade Adjustment Assistance issued by the Department on October 24, 2005, applicable to all workers of the subject firm. The notice will soon be published in the Federal Register.

The Department, at the request of the State agency, reviewed the certification for workers of Solectron Corporation, a Subsidiary of Solectron USA, Inc., Lumberton, New Jersey. The workers produce computer storage equipment.

In response to the petition filed by a company official, the certification was issued based on the investigation finding that there were worker separations and the production of computer storage equipment was shifted from the Lumberton, New Jersey plant to Mexico.

New information provided by an official of Solectron Corporation to the State agency reveals that the subject firm has not shifted production of computer storage equipment to Mexico. The company official confirmed with the Department that the plant is closing and the production is being shifted to another domestic location.

Since the production at the Lumberton, New Jersey location has not been shifted to Mexico, this certification has been terminated.

Signed at Washington, DC, this 14th day of November, 2005.
Linda G. Poole,
Certifying Officer, Division of Trade Adjustment Assistance.

[FR Doc. E5-6998 Filed 12-6-05; 8:45 am]

BILLING CODE 4510-30-P